DEPARTMENT OF HEALTH AND HUMAN SERVICES

National Institutes of Health

Proposed Collection; Comment Request; Request; OMB No. 0925-0177 “Special Volunteer and Guest Researcher Assignment,” Form 590

SUMMARY: In compliance with the requirement of Section 3506(c)(2)(A) of the Paperwork Reduction Act of 1995, for opportunity for public comment on proposed information collection, the Office of Human Resources, the National Institutes of Health (NIH) will publish periodic summaries of proposed projects to be submitted to the Office of Management and Budget (OMB) for review and approval.

Proposed Collection: Title: Special Volunteer and Guest Researcher Assignment for use in NIH facilities.

Type of Information Collection Request: Reinstatement, OMB 0925-0177, Expiration Date July 31, 2005.

Need and Use of Information Collection Request:

Form Number: NIH-590. A single Form NIH-590 is completed by an NIH official for each Guest Researcher or Special Volunteer prior to his/her arrival at NIH. The information on the form is necessary for the approving official to reach a decision on whether to allow a Guest Researcher to use NIH facilities, or whether to accept volunteer services offered by a Special Volunteer. If the original assignment is extended, another form notating the extension is completed to update the file.

Frequency of Response: Once.

Affected Public: Individuals.

Type of Respondents: Non-federal scientific professionals and/or individuals.

The annual Reporting burden is as follows:

Estimated Number of Respondents: 1660;

Estimated Number of Responses per Respondent: 1.0;

Average Burden Hours per Response: 0.1; and

Estimated Total Annual Burden Hours Requested: 166. The estimated annualized cost to respondents is $2,275.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Mrs. Wanda Darwin, Office of Human Resources, Office of The Director, NIH, Building 31, Room 1C31E, One Center Drive, Bethesda, MD 20892-2269, or call non-toll-free number 301-402-2820, or E-mail your request, including your address to: [darwinw@od.nih.gov].

Comments Due Date: Comments regarding this information collection are best assured of having their full effect if received within 60 days of the date of this publication.

Dated: August 18, 2010.
Wanda R. Darwin,
Human Resources Specialist, Office of Human Resources, National Institutes of Health.

[FR Doc. 2010-21099 Filed 8-24-10; 8:45 am]

BILLING CODE 4140-01-P